FEDERAL HOUSING FINANCE BOARD

Sunshine Act Meeting Notice; Announcing an Open Meeting of the Board of Directors

Time and Date: The meeting of the Board of Directors is scheduled to begin at 10 a.m. on Thursday, January 18, 2007.

Place: Board Room, First Floor, Federal Housing Finance Board, 1625 Eye Street, NW., Washington, DC 20006.

Status: The meeting will be open to the public.

Matter to be Considered: Appointment of Federal Home Loan Bank Directors.

Contact Person For More Information: Shelia Willis, Paralegal Specialist, Office of General Counsel, at 202-408-2876 or williss@fhfb.gov.

Dated: January 12, 2007.
By the Federal Housing Finance Board.
John P. Kennedy,
General Counsel.

[FR Doc. 07-188 Filed 1-12-07; 3 pm]

BILLING CODE 6725-01-P